DEPARTMENT OF HOMELAND SECURITY

Coast Guard

33 CFR Part 165

[Docket Number USCG-2019-0765]

RIN 1625-AA00

Safety Zones; Waterway Training Areas, Captain of the Port Maryland-National Capital Region Zone

AGENCY: Coast Guard, DHS.

ACTION: Final rule.

SUMMARY: The Coast Guard is establishing four safety zones for certain waters of the Patapsco River, Chesapeake Bay, and Potomac River. This action is necessary to provide for the safety of life on these navigable waters at Baltimore Harbor Anchorage No. 5, between Belvidere Shoal and Kent Island, MD, between Point Lookout, MD, and St. George Island, MD, and between Possum Point, VA, and Cockpit Point, VA, during non-lethal signaling and warning device training conducted from on board U.S. Coast Guard vessels. This regulation prohibits persons and vessels from being in the safety zone unless authorized by the Captain of the Port Maryland-National Capital Region or a designated representative.

DATES: This rule is effective February 13, 2020.

ADDRESSES: To view documents mentioned in this preamble as being available in the docket, go to https://www.regulations.gov, type USCG-2019-0765 in the “SEARCH” box and click “SEARCH.” Click on Open Docket Folder on the line associated with this rule.

FOR FURTHER INFORMATION CONTACT: If you have questions on this rule, call or email Mr. Ron Houck, Sector Maryland-National Capital Region Waterways Management Division, U.S. Coast Guard; telephone 410-576-2674, email Ronald.L.Houck@uscg.mil.

SUPPLEMENTARY INFORMATION:

I. Table of Abbreviations

CFR Code of Federal Regulations

COTP Captain of the Port

DHS Department of Homeland Security

FR Federal Register

NM Nautical mile

NPRM Notice of proposed rulemaking

§ Section

U.S.C. United States Code

II. Background Information and Regulatory History

To maintain ports, waterways and coastal security mission readiness, Coast Guard personnel within the Maryland-National Capital Region COTP Zone must conduct LA51 device training shoreward of the 12 nautical miles (NM) baseline. To better accommodate this training need, the COTP Maryland-National Capital Region determined it must establish four LA51 device waterway training areas in the Patapsco River, Chesapeake Bay, and Potomac River. In response, on November 29, 2019, the Coast Guard published a notice of proposed rulemaking (NPRM) titled “Safety Zones; Waterway Training Areas, Captain of the Port Maryland-National Capital Region Zone” (84 FR 65730). There we stated why we issued the NPRM, and invited comments on our proposed regulatory action related to the waterway training areas. During the comment period that ended December 30, 2019, we received no comments.

III. Legal Authority and Need for Rule

The Coast Guard is issuing this rule under authority in 46 U.S.C. 70034 (previously 33 U.S.C. 1231). The Captain of the Port Maryland-National Capital Region (COTP) has determined that potential hazards associated with the LA51 device training would be a safety concern for anyone within the waterway training areas. The purpose of this rule is to ensure safety of vessels and the navigable waters within the waterway training areas before, during, and after the training events.

IV. Discussion of Comments, Changes, and the Rule

As noted above, we received no comments on our NPRM published November 29, 2019. There are no changes in the regulatory text of this rule from the proposed rule in the NPRM.

This rule establishes four safety zones for use as waterway training areas.

Waterway training area Alpha includes all waters of the Patapsco River encompassed by a line connecting the following points beginning at 39°14′07.98″ N, 076°32′58.50″ W; thence to 39°13′34.98″ N, 076°32′24.00″ W; thence to 39°13′22.50″ N, 076°32′28.98″ W; thence to 39°13′21.00″ N, 076°33′12.00″ W; and back to the beginning point. Waterway training area Alpha is located at the entrance to Curtis Bay, in Baltimore Harbor Anchorage No. 5, at Baltimore, MD. The safety zone is a trapezoid in shape measuring approximately 1,500 yards in length and averaging 750 yards in width.

Waterway training area Bravo includes all waters of the Chesapeake Bay encompassed by a line connecting the following points beginning at 39°05′25.98″ N, 076°20′20.04″ W; thence to 39°04′40.02″ N, 076°19′28.98″ W; thence to 39°02′45.00″ N, 076°22′09.00″ W; thence to 39°03′30.00″ N, 076°23′00.00″ W; and back to the beginning point. Waterway training area Bravo is located in the approaches to Baltimore Harbor, between Belvidere Shoal and Kent Island, MD. The safety zone is a rectangle in shape situated along a northeast-southwest axis, measuring approximately 4,500 yards in length by 1,500 yards in width.

Waterway training area Charlie includes all waters of the Potomac River encompassed by a line connecting the following points beginning at 38°00′28.80″ N, 076°22′43.80″ W; thence to 38°01′18.00″ N, 076°21′54.00″ W; thence to 38°05′06.00″ N, 076°27′43.20″ W; thence to 38°04′40.20″ N, 076°28′34.20″ W; and back to the beginning point. Waterway training area Charlie is located between Point Lookout, MD, and St. George Island, MD. The safety zone is a rectangle in shape measuring approximately 12,500 yards in length by 1,500 yards in width.

Waterway training area Delta includes all waters of the Potomac River encompassed by a line connecting the following points beginning at 38°32′31.14″ N, 077°15′29.82″ W; thence to 38°32′48.18″ N, 077°15′54.24″ W; thence to 38°33′34.56″ N, 077°15′07.20″ W; thence to 38°33′15.06″ N, 077°14′39.54″ W; and back to the beginning point. Waterway training area Delta is located between Possum Point, VA, and Cockpit Point, VA. The safety zone is a trapezoid in shape measuring approximately 2,000 in length by 1,000 yards in width.

The duration and enforcement of the zones is intended to ensure the safety of vessels and these navigable waters before, during, and after these training events. Except for training participants, no vessel or person will be permitted to enter the safety zone without obtaining permission from the COTP Maryland-National Capital Region or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the size, duration, and location of the safety zones. It is anticipated that each of these four safety zones will be activated for six separate events annually. Although vessel traffic may not be able to safely transit around two of these safety zones while being enforced, both of which are on the Potomac River, the impact will be for 2 hours or less and such vessels will be able to seek permission to enter and transit these safety zones by contacting the COTP Maryland-National Capital Region or a designated representative by telephone or on VHF-FM channel 16. Moreover, the Coast Guard will issue a Broadcast Notice to Mariners via Marine Band Radio VHF-FM channel 16 about the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves four safety zones that, when activated, will last 48 enforcement hours annually and prohibit entry within portions of the Patapsco River, Chesapeake Bay, and Potomac River. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Add § 165.516 to read as follows:

§ 165.516 Safety Zones; Waterway Training Areas, Captain of the Port Maryland-National Capital Region Zone.

(a) Regulated areas. The following areas are established as safety zones (these coordinates are based on Datum NAD 83):

(1) Waterway training area Alpha. All waters of the Patapsco River, encompassed by a line connecting the following points beginning at 39°14′07.98″ N, 076°32′58.50″ W; thence to 39°13′34.98″ N, 076°32′24.00″ W; thence to 39°13′22.50″ N, 076°32′28.98″ W; thence to 39°13′21.00″ N, 076°33′12.00″ W; and back to the beginning point.

(2) Waterway training area Bravo. All waters of the Chesapeake Bay, encompassed by a line connecting the following points beginning at 39°05′25.98″ N, 076°20′20.04″ W; thence to 39°04′40.02″ N, 076°19′28.98″ W; thence to 39°02′45.00″ N, 076°22′09.00″ W; thence to 39°03′30.00″ N, 076°23′00.00″ W; and back to the beginning point.

(3) Waterway training area Charlie. All waters of the Potomac River, encompassed by a line connecting the following points beginning at 38°00′28.80″ N, 076°22′43.80″ W; thence to 38°01′18.00″ N, 076°21′54.00″ W; thence to 38°05′06.00″ N, 076°27′43.20″ W; thence to 38°04′40.20″ N, 076°28′34.20″ W; and back to the beginning point.

(4) Waterway training area Delta. All waters of the Potomac River, encompassed by a line connecting the following points beginning at 38°32′31.14″ N, 077°15′29.82″ W; thence to 38°32′48.18″ N, 077°15′54.24″ W; thence to 38°33′34.56″ N, 077°15′07.20″ W; thence to 38°33′15.06″ N, 077°14′39.54″ W; and back to the beginning point.

(b) Definitions. As used in this section—

Captain of the Port (COTP) means the Commander, U.S. Coast Guard Sector Maryland-National Capital Region.

Designated representative means a Coast Guard commissioned, warrant, or petty officer designated by or assisting the COTP in the enforcement of the safety zones.

Training participant means a person or vessel authorized by the COTP as participating in the training event or otherwise designated by the COTP or the COTP's designated representative as having a function tied to the training event.

(c) Regulations. (1) Under the general safety zone regulations in subpart C of this part, you may not enter the safety zones described in paragraph (a) of this section unless authorized by the COTP or the COTP's designated representative.

(2) Except for training participants, all vessels underway within this safety zone at the time it is activated are to depart the zone. To seek permission to enter, contact the COTP or the COTP's designated representative by telephone number 410-576-2693 or on Marine Band Radio VHF-FM channel 16 (156.8 MHz). The Coast Guard vessels enforcing this section can be contacted on Marine Band Radio VHF-FM channel 16 (156.8 MHz). Those in the safety zone must comply with all lawful orders or directions given to them by the COTP or the COTP's designated representative.

(3) The U.S. Coast Guard may be assisted in the patrol and enforcement of the safety zone by Federal, State, and local agencies.

(d) Enforcement. The safety zones created by this section will be enforced only upon issuance of a Broadcast Notice to Mariners (BNM) by the COTP or the COTP's representative, as well as on-scene notice or other appropriate means in accordance with § 165.7.

Dated: January 7, 2020.
Joseph B. Loring,
Captain, U.S. Coast Guard, Captain of the Port Maryland-National Capital Region.

[FR Doc. 2020-00280 Filed 1-13-20; 8:45 am]

BILLING CODE 9110-04-P